DEPARTMENT OF THE INTERIOR

Fish and Wildlife Service

50 CFR Part 32

RIN 1018-AT40

2004-2005 Refuge-Specific Hunting and Sport Fishing Regulations; Correction

AGENCY: Fish and Wildlife Service, Interior.

ACTION: Correction to proposed regulations.

SUMMARY: This document contains corrections to the proposed regulations which were published June 30, 2004, (69 FR 39552). The proposed regulations related to the addition of 10 refuges and wetland management districts to the list of areas open for hunting and/or sport fishing programs and increase the activities available at 7 other refuges. We also develop pertinent refuge-specific regulations for those activities and amend certain regulations on other refuges that pertain to migratory game bird hunting, upland game hunting, big game hunting, and sport fishing for the 2004-2005 season.

DATES: We must receive your comments on or before July 30, 2004.

FOR FURTHER INFORMATION CONTACT: Leslie Marler, (703) 358-2397.

SUPPLEMENTARY INFORMATION:

Background

We issue refuge-specific regulations when we open wildlife refuges to migratory game bird hunting, upland game hunting, big game hunting, or sport fishing. These regulations list the wildlife species that you may hunt or fish, season, bag or creel limits, methods of hunting or sport fishing, descriptions of areas open to hunting or sport fishing, and other provisions as appropriate. The regulations that are the subject of these corrections increase opportunity to hunt upland game only at Big Oaks National Wildlife Refuge in the State of Indiana.

Need for Correction

We provided information in the SUPPLEMENTARY INFORMATION section indicating that Big Oaks National Wildlife Refuge was opening for the first time to migratory bird and upland game. The refuge is not opening to migratory bird hunting. The “X” will be removed from the chart in the SUPPLEMENTARY INFORMATION on page 39553 under migratory bird hunting, and the amendatory text under § 32.33 for that refuge should continue to reflect that migratory bird hunting is reserved and that we are opening to upland game hunting.

Correction of Publication

Accordingly, the publication on June 30, 2004, of the proposed regulations is corrected as follows:

PART 32—[CORRECTED]

§ 32.33 [Corrected]

1. Direction #15 on page 39595 in the third column is corrected by adding instruction c. as follows: c. Revising paragraph B. of “Big Oaks National Wildlife Refuge.”

2. The listing for Big Oaks National Wildlife Refuge should be inserted on page 39595 in the third column in § 32.33 before the listing for “Muscatatuck National Wildlife Refuge”. The listing reads as follows:

Big Oaks National Wildlife Refuge * * *

B. Upland Game Hunting. We allow hunting of squirrel in accordance with State regulations subject to the following condition: We require a refuge permit.

* * * * *

Dated: July 19, 2004.
Susan Wilkinson,
Fish and Wildlife Service, Federal Register Liaison.

[FR Doc. 04-16763 Filed 7-22-04; 8:45 am]

BILLING CODE 4310-55-P